DEPARTMENT OF JUSTICE

Antitrust Division

Notice Pursuant to the National Cooperative Research and Production Act of 1993—Telemanagement Forum

Notice is hereby given that, on January 16, 2015, pursuant to Section 6(a) of the National Cooperative Research and Production Act of 1993, 15 U.S.C. 4301 et seq. (“the Act”), TeleManagement Forum (“The Forum”) has filed written notifications simultaneously with the Attorney General and the Federal Trade Commission disclosing changes in its membership. The notifications were filed for the purpose of extending the Act's provisions limiting the recovery of antitrust plaintiffs to actual damages under specified circumstances. Specifically, REDERESIDUO, São Paulo, BRAZIL; Bell Integrator, Moscow, RUSSIA; Packet One Networks (Malaysia) Sdn Bhd, Petaling Jaya, MALAYSIA; PT Indonesia Comnets Plus (ICON+), Jakarta, INDONESIA; Inabox Group Limited, Sydney, AUSTRALIA; Mobitel (Pvt) Ltd., Colombo, SRI LANKA; Nextel Brazil, São Paolo, BRAZIL; Orange Espagne S.A.U, Pozuelo de Alarcón, SPAIN; Telenor d.o.o. Serbia, Beograd, SERBIA; DiGi Telecommunications Sdn Bhd, Shah Alam, MALAYSIA; Bharti Airtel Ltd., Delhi, INDIA; Netcomp Peru, Santiago de Surco, PERU; CanGo Networks Private Ltd., Chennai, INDIA; Trust5, Dublin, IRELAND; Wind Telecomunicazioni SpA, Roma, ITALY; Torry Harris Business Solutions Pvt Ltd., Bangalore, INDIA; DonRiver, Inc., Toronto, CANADA; Neural Technologies, Petersfield, UNITED KINGDOM; North State Communications, High Point, NC; Salesforce.com, San Francisco, CA; Coriant GmbH, Munich, GERMANY; Amcom Telecommunications Ltd., Perth, AUSTRALIA; FirstNet, Reston, VA; mm1 Consulting & Management PartG, Stuttgart, GERMANY; CrEAting Waves AS, Kongsberg, NORWAY; IT SERVICES & GOUVERNANCE, Paris, FRANCE; Pelatro, Bangalore, INDIA; Sistema Turkey, Istanbul, TURKEY; ChikPea, San Francisco, CA; Invercloud, Cork, IRELAND; and Stelligence Co.LTD, Bangkok, THAILAND, has been added as parties to this venture.

The following members have changed their names: Elion Ettevõtted AS to AS Eesti Telekom, Tallinn, ESTONIA; LeanMeanBusinessMachine to BumpConductor B.V., Driehuis, NETHERLANDS; and Nextel del Perú SA to Entel Peru SA, Lima, PERU.

The following members have withdrawn as parties to this venture: 6fusion USA, Inc., Raleigh, NC; ArenaCore Pty Ltd., Melbourne, AUSTRALIA; Ariston Global, Pittsford, NY; Aspivia Ltd., Illovo, SOUTH AFRICA; Atoll Solution Ltd., Urom, HUNGARY; BEISIS, Ceroux Mousty, BELGIUM; Cloudscaling© (The Cloudscaling Group, Inc.), San Francisco, CA; Competitiveness Cluster Secured Communications Solutions, Valbonne Sophia Antipolis, FRANCE; Concordus Applications Inc., Sacramento, CA; Delta Partners FZ LLC, Dubai, UNITED ARAB EMIRATES; Desfossés Consultation, Québec, CANADA; Digital Enterprise Research Institute—NUI Galway, Galway, IRELAND; Dimetis GmbH, Dietzenbach, GERMANY; EuroCloud Netherlands, Haarlem, NETHERLANDS; First Derivatives Ireland Ltd., Dublin, IRELAND; Gilgamesh OSS Services, Weybridge, UNITED KINGDOM; Global Consultants Group 2020 C.A., Chacao, VENEZUELA; ICT Solutions Central America, Guatemala, GUATEMALA; Inetra, Novosibirsk, RUSSIA; Kreare Assessoria Empresarial, São Paulo, BRAZIL; Lyatiss, Lyon, FRANCE; Maveric Systems Limited, Chennai, INDIA; Network Laboratory, Department of Information and Communication Engineering, The University of Tokyo, Tokyo, JAPAN; Objective Systems Integrators, Folsom, CA; OneNet Ingeniería S.A., Santiago, CHILE; OSS Evolution, Ottawa, CANADA; PiA Bilişim Hizmetleri Ltd., Ataşehir—İstanbul, TURKEY; Pictor Consulting, Danderyd, SWEDEN; Proxwel, Bizerte, TUNISIA; Sagacity Softwares Private Limited, Pune, INDIA; Swiss Mobility Solutions, Alicante, SPAIN; Tele Greenland, Nuuk, GREENLAND; TM Forum Test, Morristown, NJ; TMSConsult.net, Kuala Lumpur, MALAYSIA; TURKSAT AS, Ankara, TURKEY; Universidad de Alcalá, Madrid, SPAIN, Laboratorio de Medición de Software, Madrid, SPAIN; University of Deusto—Deusto Institute of Technology, Bilbao, SPAIN; Winitu Communications B.V., Bodegraven, NETHERLANDS; XINTEC S.A., Munsbach, LUXEMBOURG; Xirrus, Thousand Oaks, CA; ARSAT, Buenos Aires, ARGENTINA; ATANOO Europe GmbH, Zug, SWITZERLAND; CA Technologies, Inc., Portsmouth, NH; CommProve Ltd., Dublin, IRELAND; Entel Chile PCS Telecomunicaciones SA, Santiago, CHILE; Episteme Systems Limited, Blanchardstown, IRELAND; ieon consulting Ltd., London, UNITED KINGDOM; International Engineering Consortium, Chicago, IL; Janus Consulting Partners, Addison, TX; Japan Mobile Platform, Tokyo, JAPAN; Johns Hopkins University Applied Physics Lab, Laurel, MD; Millicom International Cellular S.A., Leudelange, LUXEMBOURG; Mobinets, Puteaux, FRANCE; Netadmin Systems, Linkoping, SWEDEN; New Generation Management Consulting Pty Ltd., Rivonia, SOUTH AFRICA; Ogilvy, London, UNITED KINGDOM; Perpetual Solutions, London, UNITED KINGDOM; Telecom Egypt, Giza, EGYPT; Telkom SA, Pretoria, SOUTH AFRICA; and Visa, San Francisco, CA.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on October 3, 2014. A notice was published in the Federal Register pursuant to Section 6(b) of the Act on November 14, 2014 (79 FR 68302).

Patricia A. Brink,
Director of Civil Enforcement, Antitrust Division.

[FR Doc. 2015-04102 Filed 2-26-15; 8:45 am]

BILLING CODE P